DEPARTMENT OF HEALTH AND HUMAN SERVICES

Health Resources and Services Administration

Recharter for the National Advisory Council on Nurse Education and Practice

AGENCY: Health Resources and Services Administration (HRSA), Department of Health and Human Services (HHS).

ACTION: Notice.

SUMMARY: In accordance with the Federal Advisory Committee Act, HHS is hereby giving notice that the National Advisory Council on Nurse Education and Practice (NACNEP or Council) is rechartered.

DATES: The effective date of the recharter is November 30, 2024.

FOR FURTHER INFORMATION CONTACT: Justin Bala-Hampton, Bureau of Health Workforce, HRSA, 5600 Fishers Lane, Rockville, Maryland 20857; 301-443-2765 or BHWNACNEP@hrsa.gov.

SUPPLEMENTARY INFORMATION: NACNEP provides advice and recommendations to the Secretary of HHS and Congress on policy matters and the preparation of general regulations concerning activities under title VIII of the Public Health Service Act, including the range of issues relating to the nurse workforce, education, and practice improvement. NACNEP also prepares and submits an annual report to the Secretary of HHS and Congress describing its activities, including NACNEP's findings and recommendations concerning activities under title VIII, as required by the Public Health Service Act. The recharter of NACNEP was approved on October 31, 2024. The filing date for the NACNEP recharter is November 30, 2024. The recharter of NACNEP gives authorization for the Council to operate until November 30, 2026.

A copy of the NACNEP charter is available on the NACNEP website at https://www.hrsa.gov/advisorycommittees/nursing/about.html. A copy of the charter can also be obtained by accessing the FACA database that is maintained by the Committee Management Secretariat under the General Services Administration. The website address for the FACA database is https://www.facadatabase.gov/.

Maria G. Button,
Director, Executive Secretariat.

[FR Doc. 2024-28087 Filed 11-29-24; 8:45 am]

BILLING CODE 4165-15-P